DEPARTMENT OF LABOR

Office of the Assistant Secretary for Veterans' Employment and Training

Veterans' Workforce Investment Program, Program Year 2000; Information Technology Competitive Grants

AGENCY: Office of the Assistant Secretary for Veterans' Employment and Training, Labor.

ACTION: Notice of availability of funds and solicitation for grant applications (SGA) for Veterans' Workforce Investment Program (VWIP), Section 168, Program Year 2000—Information Technology Competitive Grants (SGA 01-01)

SUMMARY: All applicants for grant funds should read this notice in its entirety. The U.S. Department of Labor, Veterans' Employment and Training Service, (VETS) announces a grant competition for Veterans' Workforce Investment Program (VWIP), Section 168, Program Year 2000—Information Technology Competitive Grants. Such programs will assist eligible veterans who are identified as veterans with service-connected disabilities, veterans who served on active duty in the armed forces during a war or in a campaign or expedition for which a campaign badge has been authorized, recently separated veterans and those veterans with significant barrier to employment by providing employment, training, and supportive service assistance to these individuals in the area of information technology (IT). VETS anticipates that up to $500,000 will be available for grant awards under this solicitation. Under this solicitation, VETS expects to award up to two grants in Program Year (PY) 2000. The VWIP programs are designed to be flexible in addressing the universal as well as local or regional problems barring veterans from the IT workforce. The program in PY 2000 will continue to strengthen the provision of comprehensive services through a case management approach, the attainment of supportive service resources for veterans entering the labor force, and strategies for employment and retention.

This notice describes the background, the application process, description of program activities, evaluation criteria, and reporting requirements for this Solicitation of Grant Application.

The information and forms contained in the Supplementary Information Section of this announcement constitute the official application package for this Solicitation. This notice contains all of the necessary information and forms needed to apply for grant funding. To receive amendments to this Solicitation (Please reference SGA 01-01), all applicants must register their name and address with the Grant Officer at the following address: U.S. Department of Labor, Procurement Services Center, Room N-5416, 200 Constitution Avenue, NW., Washington, DC 20210.

CLOSING DATE: Applications and proposals are to be submitted, including those hand delivered, to the address below by no later than 4:45 p.m., Eastern Standard Time, May 16, 2001, or be postmarked or date stamped by the U.S. Postal Service on or before that date.

ADDRESSES: Applications will be mailed or hand-delivered to the U.S. Department of Labor, Procurement Services Center, Attention: Cassandra Willis, Reference SGA 01-01, Room N-5416, 200 Constitution Avenue, NW., Washington, DC 20210.

FOR FURTHER INFORMATION CONTACT: Cassandra Willis, U.S. Department of Labor, Procurement Services Center, telephone (202) 219-6445 [this is not a toll free number].

SUPPLEMENTARY INFORMATION: Veterans' Workforce Investment Program, Section 168, Program Year 2000—Information Technology Competitive Grants Solicitation

I. Purpose

The U.S. Department of Labor (DOL) VETS is requesting grant applications that will provide employment and training services for Veterans who meet the eligibility criteria set forth in accordance with the VWIP, Section 168 of the Workforce Investment Act, Pub. L. 105-220 (WIA). These instructions contain general program information, requirements, and forms to apply for funds to operate a veterans employment and training program in the area of Information Technology. Accordingly, the Assistant Secretary for Veterans' Employment and Training (ASVET) is making up to $500,000 of the funds available to award grants for unique and innovative Employment and Training programs. Programs should maximize the eligible veterans' military skills, training, and experience by effectively exploring the transitional or transferable occupational opportunities in the geographical area that the grant would be awarded. For example, programs may develop Licensing and Certification employment and training programs that target occupations that are essential to the Information Technology such as, Fiber Optics, website designers, computer programmer, etc., IT fields that have a direct impact within the economic environment that the eligible veteran resides in.

II. Background

Section 168 of the Veterans' Workforce Investment Program, provides that the Secretary will conduct, directly or through grants or contracts, such employment and training programs as the Secretary deems appropriate to assist veterans with service-connected disabilities, veterans who served on active duty in the armed forces during a war or in a campaign or expedition for which a campaign badge has been authorized, and recently separated veterans and those veterans with significant barrier to employment to obtain gainful employment.

III. Application Process

A. Eligible Applicants

Applications for funds will be accepted from State and local public agencies and private nonprofit organizations, including faith based organizations, that have familiarity with the area and populations to be served and can administer an effective program. The group that can be eligible applicants are as follows:

1. State and Local Workforce Investment Boards (WIBs) as defined in Sections 111 and 117 of the Workforce Investment Act are eligible applicants.

2. Local public agencies refers to any public agency of a general purpose political subdivision of a State which has the power to levy taxes and spend funds, as well as general corporate and police powers. (This typically refers to cities and counties). A State agency may propose in its application to serve one or more of the potential jurisdictions located in its State. This does not preclude a city or county agency from submitting an application to serve its own jurisdiction.

Applicants are encouraged to utilize, through sub grants, experienced public agencies, private nonprofit, private businesses and Faith based organizations which have an understanding of unemployment and the barriers to employment unique to veterans, a familiarity with the area to be served, and the capability to effectively provide the necessary services.

3. Also eligible to apply are private nonprofit organizations, that have operated an employment and training program for veterans; have proven capacity to manage Federal grants; and have or will provide the necessary linkages with other service providers. All Nonprofit organizations will be required to submit with their application, a recent (within one year) financial audit statement that attests to the financial responsibility and integrity of the organization. Entities described in Section 501(c)(4) of the Internal Revenue Codes that engage in lobbying activities are not eligible to receive funds under this announcement as Section 18 of the Lobbying Disclosure Act of 1995, Public Law No. 104-65, 109 Stat. 691, prohibits the award of Federal funds to these entities.

B. Funding Levels

The total amount of funds anticipated for this solicitation is $500,000. It is anticipated that two awards will be made under this solicitation. Individual Awards will not exceed $250,000. The Federal Government reserves the right to negotiate the amounts to be awarded under this competition. Applicants exceeding the $250,000, will be considered non-responsive.

C. Period of Performance

The VWIP funds for this competition are for a period of one year or twelve (12) months. The period of performance will be for twelve months from date of the award. VETS expects that successful applicants will commence program operations under this solicitation on or before June 30, 2001. There will be no further financial commitment by the U.S. Department of Labor after June 29, 2002. VETS has no plans to provide second year funding beyond this period.

D. Requirements of Submission

A cover letter, an original proposal, and two (2) copies of the proposal must be submitted to the U.S. Department of Labor, Procurement Service Office, Room N-5416, 200 Constitution Avenue, NW., Washington, DC 20210. The proposal must consist of two (2) separate and distinct parts: (1) one completed, blue ink-signed original SF 424 grant application; plus two (2) copies of the Technical Proposal; and two (2) copies of the Cost Proposal.

E. Late Proposals

The grant application package must be received at the designated place by the date and time specified or it will not be considered. Any application received at the Office of Procurement Services after 4:45 P.M. EST, May 16, 2001 will not be considered unless it is received before the award is made and:

1. It was sent by registered or certified mail no later than the fifth calendar day before May 16, 2001;

2. It is determined by the Government that the late receipt was due solely to mishandling by the Government after receipt at the U.S. Department of Labor at the address indicated; or

3. It was sent by U.S. Postal Service Express Mail Next Day Service-Post Office to Addressee, not later than 5:00 P.M. at the place of mailing two (2) working days, excluding weekends and Federal holidays, prior to May 16, 2001.

The only acceptable evidence to establish the date of mailing of a late application sent by registered or certified mail is the U.S. Postal Service postmark on the envelope or wrapper and on the original receipt from the U.S. Postal Service. If the postmark is not legible, an application received after the above closing time and date will be processed as if mailed late. “Postmark” means a printed, stamped, or otherwise placed impression (not a postage meter machine impression) that is readily identifiable without further action as having been applied and affixed by an employee of the U.S. Postal Service on the date of mailing. Therefore applicants should request that the postal clerk place a legible hand cancellation “bull's-eye” postmark on both the receipt and the envelope or wrapper.

The only acceptable evidence to establish the date of mailing of a late application sent by U.S. Postal Service Express Mail Next Day Service-Post Office to Addressee is the date entered by the Post Office receiving clerk on the “Express Mail Next Day Service-Post Office to Addressee” label and the postmark on the envelope or wrapper and on the original receipt from the U.S. Postal Service. “Postmark” has the same meaning as defined above. Therefore, applicants should request that the postal clerk place a legible hand cancellation “bull's-eye” postmark on both the receipt and the envelope or wrapper.

The only acceptable evidence to establish the time of receipt at the U.S. Department of Labor is the date/time stamp of the Procurement Services Center on the application wrapper or other documentary evidence or receipt maintained by that office. Applications sent by telegram, electronic mail, or facsimile (FAX) will not be accepted.

F. Proposal Content

The proposal will consist of two (2) separate and distinct parts:

PART I—Technical Proposal will consist of a narrative proposal that demonstrates the applicant's knowledge of the need for this particular grant program; an understanding of the services and activities proposed to alleviate the need for such services; and the capability to accomplish the expected outcomes of the proposed project design. The technical proposal will consist of a narrative not to exceed fifteen (15) pages double-spaced—font size no less than 11pt. and typewritten on one side of the paper only. The applicant must complete the forms, i.e., quarterly goals chart provided or referred to in the SGA. Charts and exhibits are not counted toward the page limit. The following format is strongly recommended:

1. Need for the project: The applicant must identify the geographical area to be served and provide an estimate of the number of veterans and their needs, poverty and unemployment rates in the area, the gaps in the local community infrastructure that contribute to employment and other barriers faced by the targeted veterans and how the project would respond to these needs. Also include the outlook for job opportunities in the service area.

2. Approach or strategy to provide training, employment and job retention: REQUIRED FEATURES

There are four program activities that all applications must contain to be found technically acceptable under this SGA. These activities are:

—Pre-Enrollment Assessments

—Employment Development Plans for all clients;

—Core Training for eighty percent (80%) or more of the clients; and

—Job Placement and 90 and 180 day Follow-up Services for all clients. The applicant must be responsive to the Rating Criteria contained in Section VIII, and address all of the rating factors as thoroughly as possible in the narrative. The applicant must: (1) provide the length of the training, the training curriculum and describe how the training will enhance the eligible veterans employment opportunities within that geographical area; (2) describe the specific supportive services and employment and training services to be provided under this grant and the sequence or flow of such services—flow charts may be provided; (3) provide a plan for follow up to address retention after 90 and 180 days with participants who entered employment. (See discussion on results in Section X. D., 2.); and (4) include the required chart of proposed performance goals and planned expenditures listed in Appendix D.

3. Linkages with other providers of employment and training services to veterans: The applicant must describe the linkages this program will have with other providers of services to veterans outside of the grant; include a description of the relationship with other employment and training programs such as Disabled Veterans' Outreach Program (DVOP), the Local Veterans' Employment Representative (LVER) program, and programs operated under the Workforce Investment Act; list the types of services provided by each. Note the type of agreement in place, if applicable. Linkages with the workforce development system [inclusive of State Employment Security Agencies (SESA's)] must be delineated. Describe any linkages with any other resources and/or other programs for veterans. Indicate how the program will be coordinated with any efforts for veterans that are conducted by agencies in the community.

4. Proposed supportive service strategy for veterans: Describe how supportive or ancillary service resources for veterans will be obtained and used. If resources are provided by other sources or linkages, such as Federal, State, or community-based programs, the applicant must fully explain the use of these resources and why they are necessary.

5. Organization's capability to provide required program activities: The applicant's relevant current or prior experience in operating employment and training programs should be clearly described. The applicant must provide information showing outcomes of past programs in terms of enrollments and placements. An applicant who has operated a Veterans program, JTPA IV-C program or VWIP program, must include final or most recent technical performance reports. The applicant must also provide evidence of key staff capability. Nonprofit organizations must submit evidence of satisfactory financial management capability, which must include recent financial and/or audit statements.

(For consideration by panel members, this information is subject to verification by the government. Veterans' Employment and Training Service reserves the right to have a representative within each State provide programmatic and fiscal information about applicants and forward those findings to the VETS National Office during the review of the applications).

Note: Resumes, charts, and standard forms, transmittal letters, letters of support are not included in the page count. [If provided, include these documents as attachments to the technical proposal.] PART II—The COST PROPOSAL must contain: (1) The Standard Form (SF) 424, “Application for Federal Assistance”; (2) the Standard Form (SF) 424A “Budget Information Sheet” in Appendix B; and (3) a detailed costs break out of each line item on the Budget Information Sheet. Please label this page or pages the “Budget Narrative” and ensure that costs reported on the SF424A correspond accurately with the Budget Narrative.

In addition to the cost proposal, the applicants must include the Assurance and Certification signature page, Appendix C and copies of all required forms with instructions for completion are provided as appendices to this solicitation.

The Catalog of Federal Domestic Assistance number for this program is 17.802, which must be entered on the SF 424, Block 10.

IV. Budget Narrative Information

As an attachment to the Budget Information Sheet (SF 424A), the applicant must provide, at a minimum, and on separate sheet(s), the following information:

(a) A breakout of all personnel costs by position, title, salary rates, and percent of time of each position to be devoted to the proposed project (including sub grantees);

(b) An explanation and breakout of extraordinary fringe benefit rates and associated charges (i.e., rates exceeding 35% of salaries and wages);

(c) An explanation of the purpose and composition of, and method used to derive the costs of each of the following: travel, equipment, supplies, sub grants/contracts, and any other costs. The applicant must include costs of any required travel described in this Solicitation. Mileage charges will not exceed 34.5 cents per mile;

(d) In order that the Department of Labor meet legislative requirements, the applicant must submit a plan along with all costs associated with retaining participant information pertinent to a longitudinal follow-up survey for at least six months after the ninety-day closeout period;

(e) Description/specification of and justification for equipment purchases, if any. Tangible, non-expendable, and personal property having a useful life of more than one year and a unit acquisition cost of $5,000 or more per unit must be specifically identified; and

(f) Identification of all sources of leveraged or matching funds and an explanation of the derivation of the value of matching/in-kind services. If resources/matching funds and/or the value of in-kind contributions are made available please show in Section B of the Budget Information Sheet.

V. Participant Eligibility

To be eligible for participation under this program, an individual must be a veterans with service-connected disabilities, veterans who served on active duty in the armed forces during a war or in a campaign or expedition for which a campaign badge has been authorized, and recently separated veterans and those veterans with significant barrier to employment as defined as follows:

A. The term “veteran” means a person who served in the active military, naval, or air service, and who was discharged or released therefrom under conditions other than dishonorable. [Reference 38 U.S.C. 4101(2)]

B. The term “Campaign veteran”—refers to any veteran who applies for participation in a program funded under WIA, Public Law 105-220, Sec. 168 and served on active duty in the United States armed forces during a war or in a campaign or expedition for which a campaign badge has been authorized. A list of the Wars, Campaigns and Expeditions can be found at the Office of Personnel Management website at http://www.opm.gov/veterans/html/vgmedal2.htm.

C. The term “service-connected disabled”—refers to an individual who was discharged or released from active duty because of a service-connected disability. (38 U.S.C. § 4211).

D. The term “recently-separated veteran”—refers to any veteran who applies for participation in a VWIP funded activity within 48 months after separation from military service. (29 U.S.C., 2801 (49))

VI. Project Summary

A. Program Concept and Emphasis

The grants awarded under this SGA are intended to address two objectives: (1) to provide services to assist in reintegrating veterans into meaningful employment within the labor force; and (2) to stimulate the development of effective service delivery systems that will address the complex problems facing veterans.

In addition to the mandatory activities, proposed programs should include, Optional Program Activities such as ancillary and/or support services, to assure that participants are placed in unsubsidized employment that meets their “minimum economic need.” Both categories of program activities are more fully described below.

1. Mandatory Program Activities

a. Pre-Enrollment Assessments

The utilization of Disabled Veterans' Outreach Program (DVOP) and Local Veterans' Employment Representatives (LVER) staff for pre-enrollment assessments is strongly encouraged.

A definition of pre-enrollment assessment can be found in the Glossary of Terms. Costs are allowed for pre-enrollment assessments that enable grantees to determine the employability needs of applicants by conducting meaningful evaluations of applicant skills and barriers. Grantees are then able to refer those applicants who may not be appropriate for the services of the proposed program to other service providers. The assessment of applicants prior to enrollment is an allowable cost to VWIP provided it has been determined that the assessed applicants meet the legislative criteria for VWIP eligibility. In the Program Design, the grant applicant must identify the means of pre-enrollment assessment that it intends to use and the purpose for the information to be derived from those assessments.

b. The Employment Development Plan (EDP)

The utilization of Disabled Veterans' Outreach Program (DVOP) and Local Veterans' Employment Representatives (LVER) staff in the EDP process is strongly encouraged. A definition of Employment Development Plan (EDP) can be found in the Glossary of Terms. The implementation of an EDP is required for all veterans enrolled in programs supported by VWIP resources. A copy of an EDP is maintained in each participant's file. The EDP must document a summary of the assessments conducted to ascertain the abilities, barriers and needs of the participant. At a minimum, the EDP must substantiate the participant's minimum income needs, identify barriers and skill deficiencies, and describe the services needed and the competencies to be achieved by the participant as a result of program participation. The applicant must also include a description of their proposed EDP process.

c. Core Training Activities

A definition of Core Training Activities can be found in the Glossary of Terms. It refers to any training program that leads to the development of job skills for the client. At least 80% of all clients who are enrolled in VWIP must receive some form of core training. The Program Design narrative must identify the core training components to be employed in the applicant's program, and these components must agree in scope with the definitions found in the Glossary of Terms. Core training components proposed by the applicant that do not fit the glossary terms or definitions must be adequately described and justified in the Program Design narrative. Core training activities described in this section must include but are not limited to the following:

i. Classroom training;

ii. On-the-job training;

iii. Remedial education;

iv. Literacy and bilingual training;

v. Institutional skills training;

vi. Occupational skills training;

vii. On-site industry-specific training;

viii. Customized training;

ix. Apprenticeship training; and

x. Upgrading and retraining.

Definitions of these core training activities are found in the Glossary of Terms.

d. Job Placement and Follow-up Services

The utilization of Disabled Veterans' Outreach Program (DVOP) and Local Veterans' Employment Representatives (LVER) staff for Job Placement and Follow-up services is strongly encouraged.

A definition of Job Placement and Follow-up Services can be also found in the Glossary of Terms. The ultimate objective of VWIP services is to place each eligible veteran into meaningful, gainful employment that allows the client to become economically self-sufficient. The applicants must describe in the Program Design how job placements will occur after core training activities and/or after job development or referral efforts are initiated. Applicants are required to include follow-up in their proposed program to track applicant's progress and status after initial placement. Applicants must describe in the Program Design the follow-up activities that clients will be provided; the description must include the nature of those services. Please note that follow-up is required 90 and 180 days after entering employment.

B. Scope of Program Design

The project design must provide or arrange for the following:

1. Projects must show linkages with other programs and services which provide support to veterans. Coordination with the Disabled Veterans' Outreach Program (DVOP) Specialists and Local Veterans' Employment Representative (LVER) is strongly encouraged.

2. Projects will be “employment-focused”. The services provided will be directed toward increasing the employability of veterans by providing information technology training which will increase employment opportunities for the participants with employment opportunities.

Outreach should, to the degree practical, be provided at Veterans' Job Fairs, Transition Assistance centers, or Family Service Center at military installations, and other programs or events frequented by veterans.

Coordination with veterans' services programs and organizations such as:

—The State Employment Security/Job Service Agencies (SESA's) or in the newly instituted workforce development system's One-Stop Centers, or other VWIP Veterans' Employment Programs

—Department of Veterans' Affairs (DVA) services, including its Education, programs.

—Veterans' service organizations, such as The American Legion, Disabled American Veterans (DAV), Veterans of Foreign Wars (VFW), Vietnam Veterans of America (VVA), and American Veterans (AMVETS)

C. Results-Oriented Model

Based on the past experiences of grantees working with veterans, a workable program model evolved which is presented for consideration by prospective applicants. No model is mandatory, and the applicant must design a program that is responsive to local needs, and will carry out the objectives of the veteran to successfully reintegrate into the workforce.

With the advent of implementing the Government Performance and Results Act (GPRA), Congress and the public are looking for program results rather than just program processes. Although entering employment is a viable outcome, it will be necessary to measure results over a longer term to determine the success of programs. Without a sound program foundation, the results of program are in question which places the program success in jeopardy. The following program discussion must be considered. The first phase of activity must consist of the level of outreach that is necessary to reach eligible veterans. Such outreach will also include establishing contact with other agencies that encounter veterans. Once the eligible clients have been identified, an assessment must be made of the their abilities or interests and needs. In some cases these clients may require referrals to services such as drug or alcohol treatment or a temporary shelter before they can be enrolled into core training. When the individual is stabilized, the assessment should focus on the employability of the individual and their enrollment into the program. A determination must be made as to whether the client would benefit from pre-employment preparation such as resume writing, job search workshops, related counseling and case management, and initial entry into the job market through temporary jobs, Job development, or entry into classroom or on-the-job training. Such services must also be noted in an Employability Development Plan so that successful completion of the plan can be monitored by the staff. Entry into full-time employment or a specific job training program must follow in keeping with the objective of the program, which is to bring the participant closer to self-sufficiency. Supportive Services may assist the participant at this stage or even earlier. Job development is a crucial part of the employability process. Wherever possible, DVOP and LVER staff need to be utilized for job development and placement activities for veterans who are ready to enter employment or who are in need of intensive case management services. Many of these staff members have received training in case management at the National Veterans' Training Institute and have as a priority of focus, assisting those most at a disadvantage in the labor market. VETS urges working hand-in-hand with DVOP/LVER staff to achieve economies of resources. If the DVOP and LVER staff are not being utilized, the applicant must submit a written explanation explaining the reasons why they are not.

The following program discussion emphasizes that followup is an integral program component. Follow up to determine whether the veteran is in the same or similar job at the 90- and 180-day period after entering employment is required. It is important that the grantee maintain contact with the veterans after placement to assure that employment related problems are addressed. The 90- and 180-day follow up is fundamental to assessing the results of the program success. Grantees must be careful to budget for this activity so that follow up can and will occur for those placed at or near the end of the grant period. Such results will be reported in the final technical performance report.

Retention of records will be reflected in the Special Grant Provisions to be provided at the time of any award.

VII. Related Program Development Activities

1. Community Awareness Activities

In order to promote linkages between the program and local service providers (and thereby eliminate gaps or duplication in services and enhance provision of assistance to participants), the grantee must provide project orientation and/or service awareness activities that it determines are the most feasible for the types of providers listed below. Project orientation workshops conducted by the grantees have been an effective means of sharing information and revealing the availability of other services; they are encouraged but not mandatory. Rather, the grantee will have the flexibility to attend service provider meetings, seminars, conferences, outstation staff, develop individual service contracts, and involve other agencies in program planning. This list is not exhaustive. The grantee will be responsible for providing appropriate awareness, information sharing, and orientation activities to the following:

a. Providers of hands-on services to the veteran, to make them fully aware of services available to veterans to make them job-ready and place them in jobs.

b. Federal, State and local entitlement services such as the Department of Veterans Affairs (DVA), State Employment Security Agencies (SESA's) and their local Job Service offices, and One-Stop Centers (which integrate WIA, labor exchange, and other employment and social services) to familiarize them with the nature and needs of veterans.

c. Civic and private sector groups, and especially veterans' service organizations, to describe veterans and their needs.

VIII. Rating Criteria for Award

Applications will be reviewed by a DOL panel using the point scoring system specified below. Applications will be ranked based on the score assigned by the panel after careful evaluation by each panel member. The ranking will be the primary basis to identify applicants as potential grantees. Although the Government reserves the right to award on the basis of the initial proposal submissions, the Government may establish a competitive range, based upon the proposal evaluation, for the purpose of selecting qualified applicants. The panel's conclusions are advisory in nature and not binding on the Grant Officer. The government reserves the right to ask for clarification or hold discussions, but is not obligated to do so. The Government further reserves the right to select applicants out of rank order if such a selection would, in its opinion, result in the most effective and appropriate combination of funding, administrative costs, program costs e.g. cost per enrollment and placement, demonstration models, and geographical service areas. The Grant Officer's determination for award under SGA 01-01 is the final agency action. The submission of the same proposal from any prior year competition does not guarantee an award under this Solicitation.

Panel Review Criteria

1. Need for the Project: 15 points

The applicant will document the extent of need for this project, as demonstrated by: (1) The potential number or concentration of veterans in the proposed project area relative to other similar areas of jurisdiction; (2) the high rates of poverty and/or unemployment in the proposed project area as determined by the census or other surveys; and (3) the extent of gaps in the local infrastructure to effectively address the employment barriers which characterize the target population.

2. Overall Strategy to Increase Employment and Retention: 40 points

The application must include a description of the proposed approach to providing comprehensive employment services and Information Technology training, including job development, employers' commitment to hire, placement, and post-placement follow up services. The applicant must address their intent to target occupations in expanding Information Technology Industries, rather than on declining industries. The supportive services to be provided as part of the strategy of promoting job readiness and job retention must be indicated. The applicant must identify the local human resources and sources of training to be used for participants. A description of the relationship, if any, with other employment and training program such as SESA's (DVOP and LVER Programs), VWIP, other WIA programs, and Workforce Investment or Development Boards or entities where in place, must be presented. It must be indicated how the activities will be tailored or responsive to the needs of veterans. A participant flow chart may be used to show the sequence and mix of services.

Note: The applicant must complete the chart of proposed program outcomes to include participants served, and job retention. (See Appendix D)

3. Quality and Extent of Linkages With Other Providers of Services to the Veterans: 10 points

The application must provide information on the quality and extent of the linkages this program will have with other providers of services to benefit the veterans in the local community and/or on the reservation and outside of the grant. For each service, it must be specified who the provider is, the source of funding (if known), and the type of linkages/referral system established or proposed. [Describe to the extent possible, how the project would respond to the needs of the Veterans and any linkages to DVA programs or resources to benefit the proposed program.]

4. Demonstrated Capability in Providing Required Program Services: 20 points

The applicant must describe its relevant prior experience in operating employment and training programs and providing services to participants similar to that which is proposed under this solicitation. Specific outcomes achieved by the applicant must be described in terms of clients placed in jobs, etc. The applicant must also delineate its staff capability and ability to manage the financial aspects of Federal grant programs. Relevant documentation such as recent (within the last 12 months) financial and/or audit statements must be submitted (required for applicants that are nonprofit organizations). Final or most recent technical reports for other relevant programs must be submitted as applicable. The applicant must also address its capacity for timely startup of the program.

5. Quality of Overall Employment and Training Strategy: 15 points

The application must demonstrate how the applicant proposes to meet the employment and training, and supportive services needs for veterans in the program and who will be entering the labor force. This discussion must specify the provisions made to access transportation, child care, temporary, transitional, and permanent housing for participants through community resources, HUD, lease, WIA, or other means. The Grant funds will not be used to purchase housing or vehicles.

Applicants can expect that the cost proposal will be reviewed for allowability, allocability, and reasonableness of the placement and enrollment costs.

IX. Post Award Conference

A post-award conference will be held for those awarded PY 2000 VWIP funds from the competition. It is expected to be held in July or August 2001. It is required that up to two grantee representatives will be present, a fiscal and programmatic representative are recommended. The site of the Post-Award conference will be at a location convenient for the grantee and Grant Officer Technical Representative (GOTR). The conference will focus on providing information and assistance on reporting, record keeping, and grant requirements, and will also include best practices from past projects.

X. Reporting Requirements

The grantee will submit the reports and documents listed below:

A. Financial Reports

The grantee will report outlays, program income, and other financial information on a quarterly basis using SF 269A, Financial Status Report, Short Form. This form will cite the assigned grant number and be submitted to the appropriate State Director for Veterans' Employment and Training (DVET), whose address will be provided, no later than 30 days after the ending date of each Federal fiscal quarter (i.e., October 30, January 30, April 30, and July 30) during the grant period.

B. Program Reports

Grantees will submit a Quarterly Technical Performance Report 30 days after the end of each Federal fiscal quarter to the DVET which contains the following:

1. A comparison of actual accomplishments to established goals for the reporting period and any findings related to monitoring efforts; and

2. An explanation for variances of plus or minus 15% of planned program and/or expenditure goals, to include: (i) identification of corrective action which will be taken to meet the planned goals, and (ii) a timetable for accomplishment of the corrective action.

C. Final Report Packages

The grantee will submit no later than 90 days after the grant expiration date a final report containing the following:

1. Final Financial Status Report (SF-269A) (copy to be provided following grant awards)

2. Final Technical Performance Report—(Program Goals)

3. Final Narrative Report identifying—(a) Major successes of the program; (b) obstacles encountered and actions taken (if any) to overcome such obstacles; (c) the total combined number of veterans placed in employment during the entire grant period; (d) the number of veterans still employed at the end of the grant period; (e) an explanation regarding why those veterans placed during the grant period, but not employed at the end of the grant period, are not so employed; and (f) any recommendations to improve the program.

D. Six (6) Month Close Out

No later than 6 months after the 90-day closeout period, the grantee will submit a follow up report containing the following:

1. Closeout Financial Status Report (SF-269A).

2. Closeout Narrative Report identifying—(a) the total combined (directed/assisted) number of veterans placed during the entire grant period; (b) the number of veterans still employed during follow up; (c) are the veterans still employed at the same or similar job, if not what are reasons; (d) was the training received applicable to jobs held; (e) wages at placement and during follow up period; (f) an explanation regarding why those veterans placed during the grant, but not employed at the end of the follow up period, are not so employed; and (g) any recommendations to improve the program.

XI. Administration Provisions

A. Limitation on Administrative and Indirect Costs

1. Direct Costs for administration, plus any indirect charges claimed, may not exceed 10 percent of the total amount of the grant.

2. Indirect costs claimed by the applicant must be based on a federally approved rate. A copy of the negotiated, approved, and signed indirect cost negotiation agreement must be submitted with the application.

3. If the applicant does not presently have an approved indirect cost rate, a proposed rate with justification may be submitted. Successful applicants will be required to negotiate an acceptable and allowable rate with the appropriate DOL Regional Office of Cost Determination within 90 days of grant award.

4. Rates traceable and trackable through the SESA Cost Accounting System represent an acceptable means of allocating costs to DOL and, therefore, can be approved for use in grants to SESA's.

B. Allowable Costs

Determinations of allowable costs will be made in accordance with the following applicable Federal cost principles:

1. State and local government—OMB Circular A-87

2. Educational institutions—OMB Circular A-21

3. Nonprofit organizations—OMB Circular A-122

C. Administrative Standards and Provisions

All grants will be subject to the following administrative standards and provisions:

1. 29 CFR part 93—Lobbying.

2. 29 CFR part 95—Uniform Administrative Requirements for Grants and Agreements with Institutions of Higher Education, Hospitals, and other Non-Profit Organizations, and with Commercial Organizations, Etc.

3. 29 CFR part 96—Federal Standards for Audit of Federally Funded Grants, Contracts and Agreements. This rule implements, for State and local governments and Indian tribes that receive Federal Assistance from the DOL, Office of Management and Budget (OMB) Circular A-128 “Audits of State and Local Governments” which was issued pursuant to the Single Audit Act of 1984, 31 U.S.C., Sec. 7501-7507. It also consolidates the audit requirements currently contained throughout the DOL regulations.

4. 29 CFR part 97—Uniform Administrative Requirements for Grants and Cooperative Agreements to State and Local Governments.

5. 29 CFR part 98—Government wide Debarment and Suspension (Nonprocurement) and Government-wide Requirements for Drug-Free Workplace (Grants)

6. 29 CFR part 99—Audit Of States, Local Governments, and Non-profit Organization.

7. Section 168(b) of WIA—Administration of Programs Please note that Sections 181-195 also apply.

8. 29 CFR parts 30, 31, 32, 33 and 34—Equal Employment Opportunity in Apprenticeship and Training; Nondiscrimination in Federally Assisted Programs of the Department of Labor, Effectuation of Title VI of the Civil Rights Act of 1964; and Nondiscrimination on the Basis of Handicap in Programs and Activities Receiving or Benefitting from Federal Financial Assistance (Incorporated by Reference). These rules implement, for recipients of federal assistance, non-discrimination provisions on the basis of race, color, national origin, and handicapping condition, respectively.

9. Appeals from non-designation will be handled under 20 CFR part 667.

Signed at Washington, DC, this 5th day of April, 2001.
Lawrence J. Kuss,
Grant Officer.

Appendices

Appendix A: Application for Federal Assistance SF Form 424

Appendix B: Budget Information Sheet, SF 424A

Appendix C: Assurances and Certifications Signature Page

Appendix D: Technical Performance Goals Form

Appendix E: Direct Cost Descriptions for Applicants and Sub-Applicants

Appendix F: Glossary of Terms

BILLING CODE 4510-79-P

[FR Doc. 01-9345 Filed 4-13-01; 8:45 am]

BILLING CODE 4510-79-C